DEPARTMENT OF TRANSPORTATION

Federal Aviation Administration

14 CFR Part 39

[Docket No. 2000-NM-114-AD; Amendment 39-11978; AD 2000-23-08]

RIN 2120-AA64

Airworthiness Directives; Airbus Model A310 and A300-600 Series Airplanes

AGENCY: Federal Aviation Administration, DOT.

ACTION: Final rule.

SUMMARY: This amendment adopts a new airworthiness directive (AD), applicable to certain Airbus Model A310 and A300-600 series airplanes, that requires replacement of the flight control computers (FCC) with new, improved FCC's having updated software installed. This amendment also requires, for some airplanes, modification of the wiring of the FCC's. The actions specified by this AD are intended to prevent autopilot reversions in certain flight conditions, which could result in misunderstanding by the flight crew and consequent reduced ability to take appropriate action. This action is intended to address the identified unsafe condition.

DATES: Effective December 20, 2000.

The incorporation by reference of certain publications listed in the regulations is approved by the Director of the Federal Register as of December 20, 2000.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to certain Airbus Model A310 and A300-600 series airplanes was published in the Federal Register on August 25, 2000 (65 FR 51775). That action proposed to require replacement of the flight control computers (FCC) with new, improved FCC's having updated software installed. That action also proposed to require, for some airplanes, modification of the wiring of the FCC's.

Comments

Interested persons have been afforded an opportunity to participate in the making of this amendment. No comments were submitted in response to the proposal or the FAA's determination of the cost to the public.

Conclusion

The FAA has determined that air safety and the public interest require the adoption of the rule as proposed.

Cost Impact

The FAA estimates that 116 airplanes of U.S. registry will be affected by this proposed AD.

It will take as much as 17 work hours per airplane to accomplish the required replacements, at an average labor rate of $60 per work hour. Required parts will cost as much as $5,064 per airplane. Based on these figures, the cost impact of the required replacements on U.S. operators is estimated to be as much as $705,744, or $6,084 per airplane.

It will take approximately 1 work hour per airplane to accomplish the required modification of the wiring, at an average labor rate of $60 per work hour. Based on these figures, the cost impact of the required modification on U.S. operators is estimated to be $6,960, or $60 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-23-08 Airbus Industrie: Amendment 39-11978. Docket 2000-NM-114-AD.

Applicability: Model A310 series airplanes equipped with flight control computers (FCC) having part number (P/N) B350AAM4 or B470ABM2, and Model A300-600 series airplanes equipped with FCC's having P/N B470AAM2; certificated in any category; except those airplanes on which Airbus Modification 11899 or 11900 (Airbus Service Bulletin A310-22-2048 or A310-22-2049 or A300-22-6038) has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent autopilot reversions in certain flight conditions, which could result in misunderstanding by the flight crew and consequent reduced ability to take appropriate action, accomplish the following:

Replacement of FCC's and Modification of Wiring

(a) Within 26 months after the effective date of this AD, replace the FCC's with new, improved FCC's having updated software installed; and modify the wiring, as applicable; in accordance with paragraph (a)(1), (a)(2), or (a)(3), as applicable.

(1) For Airbus Model A310 series airplanes equipped with FCC's having P/N B350AAM4: Replace the FCC's in accordance with Airbus Service Bulletin A310-22-2048, Revision 01, dated March 6, 2000.

(2) For Airbus Model A310 series airplanes equipped with FCC's having P/N B470ABM2: Replace the FCC's in accordance with Airbus Service Bulletin A310-22-2049, Revision 02, dated March 6, 2000. Prior to or concurrent with the replacement, modify the wiring in accordance with Airbus Service Bulletin A310-22-2051, Revision 02, dated March 8, 2000.

(3) For Airbus Model A300-600 series airplanes equipped with FCC's having P/N B470AAM2: Replace the FCC's in accordance with Airbus Service Bulletin A300-22-6038, dated August 24, 1999. Prior to or concurrent with the replacement, modify the wiring in accordance with Airbus Service Bulletin A300-22-6040, Revision 02, dated March 6, 2000.

Note 2: Accomplishment of the actions required by paragraph (a) of this AD prior to the effective date of this AD in accordance with Airbus Service Bulletin A310-22-2048, dated December 13, 1999; A310-22-2049, dated August 24, 1999, or Revision 01, dated December 13, 1999; A310-22-2051, dated August 26, 1999, or Revision 01, dated December 13, 1999; or A300-22-6040, dated August 26, 1999, or Revision 01, dated December 13, 1999; is acceptable for compliance with the applicable actions specified in that paragraph.

Note 3: The Airbus service bulletins reference SEXTANT Service Bulletins B350AAM-22-008, B470AAM-22-013, and B470ABM-22-012, each dated September 29, 1999, as additional sources of service information for accomplishing the replacement required by this AD.

Alternative Methods of Compliance

(b) An alternative method of compliance or adjustment of the compliance time that provides an acceptable level of safety may be used if approved by the Manager, International Branch, ANM-116, FAA. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with Airbus Service Bulletin A310-22-2048, Revision 01, dated March 6, 2000; Airbus Service Bulletin A310-22-2049, Revision 02, dated March 6, 2000; Airbus Service Bulletin A310-22-2051, Revision 02, dated March 8, 2000; Airbus Service Bulletin A300-22-6038, dated August 24, 1999; and Airbus Service Bulletin A300-22-6040, Revision 02, dated March 6, 2000; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton; Washington; or at the Office of the Federal Register, 800 North Capitol Street, NW., suite 700, Washington, DC.

Note 5: The subject of this AD is addressed in French airworthiness directive 2000-137-305(B), dated August 21, 2000.

Effective Date

(e) This amendment becomes effective on December 20, 2000.

Issued in Renton, Washington, on November 6, 2000.
Donald L. Riggin,
Acting Manager, Transport Airplane Directorate, Aircraft Certification Service.

[FR Doc. 00-28966 Filed 11-14-00; 8:45 am]

BILLING CODE 4910-13-U